FEDERAL MARITIME COMMISSION

Sunshine Act; Notice of Meeting

Agency Holding the Meeting: Federal Maritime Commission

Time and Date: October 29, 2008—10 a.m.

Place: 800 North Capitol Street, NW., First Floor Hearing Room, Washington, DC.

Status: A portion of the meeting will be in Open Session and the remainder of the meeting will be in Closed Session.

Matters to be Considered:

Open Session

(1) FY 2009 Budget Allocations for the Continuing Resolution Period.

Closed Session

(1) Docket No. 08-02—Revocation of Ocean Transportation Intermediary License No. 016019N—Central Agency of Florida, Inc.

(2) Export Cargo Issues.

(3) Internal Administrative Practices and Personnel Matters.

(4) Petition of Natural Resources Defense Council, Coalition for Clean Air, and Sierra Club Related to Federal Maritime Commission Evaluation and Actions on the Ports of Los Angeles and Long Beach's Clean Trucks Program.

(5) FMC Agreement No. 201170-001, LA/Long Beach Port Infrastructure & Environmental Cooperative Working Agreement.

(6) FMC Agreement No. 201196—The Los Angeles and Long Beach Marine Terminal Agreement.

FOR FURTHER INFORMATION CONTACT: Karen V. Gregory, Secretary, (202) 523-5725.

Karen V. Gregory,
Secretary.

[FR Doc. E8-25583 Filed 10-22-08; 4:15 pm]

BILLING CODE 6730-01-P